DEPARTMENT OF LABOR

Employment and Training Administration

Notice of Determinations Regarding Eligibility To Apply for Worker Adjustment Assistance

In accordance with Section 223 of the Trade Act of 1974, as amended (19 USC 2273) the Department of Labor herein presents summaries of determinations regarding eligibility to apply for trade adjustment assistance for workers by (TA-W) number issued during the period of June 7, 2010 through June 11, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either-

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W number | Subject firm | Location | Impact date
72,632 | Modine Manufacturing Company, Modine Manufacturing Company, Leased Workers of Aerotek etc | Camdenton, MO | September 28, 2008.
72,663 | Mid-States Tool and Machine, Inc. | Decatur, IN | October 22, 2008.
73,134 | Hexion Specialty Chemicals, Inc. | Brady, TX | December 18, 2008.
73,538 | JT Sports, LLC, Leased Workers of Kelly Services and Manpower | Neosho, MO | February 12, 2009.
73,538A | JT Sports, LLC, Corporate Headquarters | Bentonville, AR | February 12, 2009.
73,552 | Lincoln Food Service Products, LLC, The Manitowac Company, Smallwares | Fort Wayne, IN | February 22, 2009.
73,590 | Flexible Technologies, Incorporated, Hi-Tech/Duravent-Georgetown | Georgetown, MA | February 26, 2009.
73,618 | Quincy Castings, Inc., Pete Deluke and Associates | Quincy, OH | February 23, 2009.
73,638 | Tritex, LLC, Leased Workers from Westaff | Independence, VA | March 1, 2009.
73,640 | Wacker Chemical Corporation, Leased Workers from HKA Enterprises, Inc | Duncan, SC | March 4, 2009.

The following certifications have been issued. The requirements of Section 222(a)(2)(B) (shift in production or services) of the Trade Act have been met.

TA-W No. | Subject firm | Location | Impact date
73,082 | Yellow Roadway Corporation, A Subsidiary of YRC Worldwide, Inc. | Mechanicsburg, PA | December 8, 2008.
73,312 | AT&T Mobility Services, LLC, Consumer Centers, Sales, Mobility Customer, Quality Observation | Atlanta, GA | January 19, 2009.
73,406 | ET Publishing, Inc., Accounting Department | Miami, FL | January 27, 2009.
73,520 | Gildan Activewear, Inc., Leased Workers of Debbie's Staffing and Ameristaff | Martinsville, VA | February 16, 2009.
73,576 | BE Aerospace, Inc., Engineering Services Group | Winston Salem, NC | February 17, 2009.
73,609 | Faurecia Emissions Control Technologies, Leased Workers from Adecco Employment Services | Troy, MI | February 22, 2009.
73,664 | Coloplast Manufacturing US, LLC, Global Operations, Leased Workers from Randstad USA, etc | Vadnais Heights, MN | March 8, 2009.
73,682 | Hartford Financial Services Group, Incorporated, Medical Bill Processing and Production Center Support | Aurora, IL | March 10, 2009.
73,682A | Hartford Financial Services Group, Incorporated, Medical Bill Processing and Production Center Support | Syracuse, NY | March 10, 2009.
73,694 | The Travelers Indemnity Company, Claim Services Department, Business Intelligence and Analytics Subdivision | Hartford, CT | March 8, 2009.
73,762 | Rain Bird Corporation, Arizona Molding Division, Leased Workers from Lumea Staffing Services, etc | Tucson, AZ | March 18, 2009.
73,778 | Securitas Security Services USA, Inc., Security Workers On-Site at DPH Holdings | Tanner, AL | February 26, 2010.
73,782 | Metalsa Structural Products, Inc., Metalsa S.A., Dana Corp., Leased Workers of Adecco Employment Services | Stockton, CA | March 22, 2009.
73,862 | JC Penney Corporation, Inc., IT Application Support & Maintenance | Plano, TX | March 19, 2009.
73,884 | Integrated Silicon Solution, Inc., Accounting and Finance Departments, Leased Workers from ATR International | San Jose, CA | April 7, 2009.
73,899 | Lands' End, Inc., Merchandising and Planning | Dodgeville, WI | April 7, 2009.
73,926 | Dana Holding Corporation, Commercial Vehicle Product Group | Glasgow, KY | May 31, 2010.
73,949 | Anthem Insurance Companies, Inc., Wellpoint, Central States Provide Host, Leased Workers Jacobsen Group | Cape Girardeau, MO | April 13, 2009.
73,949A | Anthem Insurance Companies, Inc., Wellpoint, Central States Provide Host, Leased Workers Jacobsen Group | Worthington, OH | April 13, 2009.
73,949B | Anthem Insurance Companies, Inc., Wellpoint, Central States Provide Host Services Division | Eau Claire, WI | April 13, 2009.
73,949C | Anthem Insurance Companies, Inc., Wellpoint, Bluecard Home Claims Operations Division | Cape Girardeau, MO | April 13, 2009.
73,949D | Anthem Insurance Companies, Inc., Wellpoint, Group Claims Operations Division | Cape Girardeau, MO | April 13, 2009.
73,949E | Anthem Insurance Companies, Inc., Wellpoint, Group Claims Operations Division | Springfield, MO | April 13, 2009.
73,949F | Anthem Insurance Companies, Inc., Wellpoint, Group Claims Operations Division | Platteville, WI | April 13, 2009.
73,949G | Anthem Insurance Companies, Inc., Wellpoint, Group Host Claims Division, Leased Workers Jacobsen Group | Cape Girardeau, MO | April 13, 2009.
73,949H | Anthem Insurance Companies, Inc., Wellpoint, Enrollment and Billing Division | Cape Girardeau, MO | April 13, 2009.
73,958 | Hospira, Inc., Lake Forest Division, Leased Workers from Kelly Services | Pleasant Prairie, WI | April 16, 2009.
73,967 | Hewlett Packard Company, Inkjet Supplies Business, Leased Workers Technical Aid, dba TAC Worldwide | Boise, ID |
73,968 | Hospira, Inc., Leased Workers from Kelly Services | North Chicago, IL | April 19, 2009.
73,993 | Springer Science+Business Media, LLC | Norwell, MA | April 22, 2009.
73,993A | Health Net, Inc., Springer Science+Business Media, LLC | Cambridge, MA | April 22, 2009.
73,997 | Citicorp Credit Services, Inc., (USA) (“CCSI”), Transaction Services Department, Payment Processing Data Entry | Urbandale, IA | April 21, 2009.
74,080 | General Electric Dothan Motor Plant, GE Energy Division | Dothan, AL | May 10, 2009.
74,108 | Harris Corporation, Broadcast, Leased Workers Yoh Services, LLC, Synergy Computer Solutions | Englewood, CO | May 17, 2009.
74,109 | General Electric (GE) | Bloomington, IL | May 17, 2009.

The following certifications have been issued. The requirements of Section 222(c) (supplier to a firm whose workers are certified eligible to apply for TAA) of the Trade Act have been met.

TA-W No. | Subject firm | Location | Impact date
71,966 | Millat Industries Corporation, Leased Workers from Staffmark | Dayton, OH | August 3, 2008.
73,277 | Bomag Paving Products | Warrensburg, MO | December 29, 2008.

The following certifications have been issued. The requirements of Section 222(c) (downstream producer for a firm whose workers are certified eligible to apply for TAA) of the Trade Act have been met.

TA-W No. | Subject firm | Location | Impact date
73,931 | Toyota Tsusho America, Inc., Logistics Mfg., Leased Workers from Optimum Logistics Solutions & Randstad | Bedford Park, IL | March 23, 2009.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W No. | Subject firm | Location | Impact date
73,739 | World Wide Technology | Greensboro, NC |
73,884A | Integrated Silicon Solution, Inc., Document Control Department, Leased Workers from ATR International | San Jose, CA |
73,884B | Integrated Silicon Solution, Inc., Sales Departments, Leased Workers from ATR International | San Jose, CA |
73,884C | Integrated Silicon Solution, Inc., Engineering Departments, Leased Workers from ATR International | San Jose, CA |
74,030 | DaveCo | Eureka, CA |

The investigation revealed that the criteria under paragraphs(a)(2)(A) (increased imports) and (a)(2)(B) (shift in production or services to a foreign country) of section 222 have not been met.

TA-W No. | Subject firm | Location | Impact date
71,916 | Cymer, Inc | San Diego, CA |
72,032 | Marshfield Doorsystems, Inc | Marshfield, WI |
72,200 | Varco Pruden Buildings, Bluescope Buildings North America, BlueScope Steel Corporate | Kernersville, NC |
72,476 | ITW Shippers Products, Illinois Tool Works | Mt. Pleasant, TN |
72,612 | Corrosion Control, Inc., DBA Pikotek, Enpro Industries | Wheat Ridge, CO |
73,009 | Sunoco, Inc., Refinery and Supply Division, DBA Eagle Point Refinery | Westville, NJ |
73,015 | Mohawk ESV, Incorporated, Landrum Plant-Commercial Flooring | Landrum, SC |
73,399 | National Oilwell Varco, Rig Solutions Division | Odessa, TX |
73,421 | Champlain Furniture, Les Meubles Poitras (2002) Inc | Malone, NY |
73,636 | Tele-Response Center, Inc., D.B.A. 121 Direct Response | Wellston, OH |

Determinations Terminating Investigations of Petitions for Worker Adjustment Assistance

After notice of the petitions was published in the Federal Register and on the Department's website, as required by Section 221 of the Act (19 USC 2271), the Department initiated investigations of these petitions.

The following determinations terminating investigations were issued because the petitioner has requested that the petition be withdrawn.

TA-W No. | Subject firm | Location | Impact date
73,349 | Freres Lumber Company, Inc. | Lyons, OR |
73,488 | Hewlett Packard (HP), Global Product Development, General Motors (GM) | Milford, MI |
73,511 | PTC Alliance | Alliance, OH |
73,631 | Matsu Ohio, Formerly Known As Midwest Stamping, LLC | Edgerton, OH |
73,669 | Lazar Industries, LLC | Los Angeles, CA |
73,669A | Lazar Industries, LLC | Siler City, NC |
73,893 | Sensata Technologies, Power Controls Division, Formerly Known As Airpax Corporation | Cambridge, MD |
73,920 | Carestream Health, Inc | Windsor, CO |
73,944 | Pentair Filtration | Sheboygan, WI |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
72,755 | DW Enterprise of Ashland, Inc. | Ashland, OH |

The following determinations terminating investigations were issued because the petitioning groups of workers are covered by active certifications. Consequently, further investigation in these cases would serve no purpose since the petitioning group of workers cannot be covered by more than one certification at a time.

TA-W No. | Subject firm | Location | Impact date
72,197 | Manpower, Inc., Workers Employed on-Site at IBM, Parts Sales Div & Parts Planning Div | Harrisburg, PA |
73,422 | AT&T Mobility Services, LLC, Consumer Centers Sales, Mobility Customer, Quality | Sacramento, CA |
73,435 | AT&T Mobility Services, LLC, Consumer Centers Sales, Mobility Customer, Quality | Harrisburg, PA |
73,440 | AT&T Mobility Services, LLC, Consumer Centers Sales, Mobility Customers, Quality | Orlando, FL |
73,456 | AT&T Mobility Services, LLC, Consumer Centers Sales, Mobility Customer, Quality | Portland, OR |
74,061 | Plastic Omnium Auto Exteriors, LLC | Troy, MI |

The following determinations terminating investigations were issued because the petitions are the subject of ongoing investigations under petitions filed earlier covering the same petitioners.

TA-W No. | Subject firm | Location | Impact date
73,864 | Super Media, LLC | Chadds Ford, PA |
73,865 | Super Media, LLC | Monroeville, PA |
73,866 | Super Media, LLC | Bethlehem, PA |
73,867 | Super Media, LLC | Harrisburg, PA |
74,147 | ABB, Inc. | Mount Pleasant, PA |

I hereby certify that the aforementioned determinations were issued during the period of June 7, 2010 through June 11, 2010. Copies of these determinations may be requested under the Freedom of Information Act. Requests may be submitted by fax, courier services, or mail to FOIA Disclosure Officer, Office of Trade Adjustment Assistance (ETA), and U.S. Department of Labor, 200 Constitution Avenue, NW., Washington, DC 20210 or tofoiarequest@dol.gov. These determinations also are available on the Department's Web site at http://www.doleta.gov/tradeact under the searchable listing of determinations.

Dated: June 24, 2010.
Elliott S. Kushner,
Certifying Officer, Division of Trade Adjustment Assistance.

[FR Doc. 2010-16026 Filed 6-30-10; 8:45 am]

BILLING CODE 4510-FN-P